DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Protection and Advocacy for Individuals With Mental Illness (PAIMI) Final Rule, 42 CFR Part 51 (OMB No. 0930-0172)—Extension

These regulations meet the directive under 42 U.S.C. 10826(b) requiring the Secretary to promulgate final regulations to carry out the PAIMI Act. The regulations contain information collection requirements. The Act authorizes funds to support activities on behalf of individuals with significant (severe) mental illness (adults) or significant (severe) emotional impairment (children/youth) as defined by 42 U.S.C. 10802(4) and 10804(d). Only entities designated by the governor of each State, including American Samoa, Guam, the Commonwealth of the Northern Mariana Islands, the Commonwealth of Puerto Rico, the U.S. Virgin Islands, the Mayor of the District of Columbia, and the tribal councils for the American Indian Consortium (the Hopi and Navajo Nations in the Four Corners region of the Southwest), to protect and advocate the rights of persons with developmental disabilities are eligible to receive PAIMI Program grants [the Act at 42 U.S.C. at 10802(2)]. These grants are based on a formula prescribed by the Secretary [42 U.S.C. at 10822(a)(1)(A)].

On January 1, each eligible state protection and advocacy (P&A) system is required to prepare a report that describes its activities, accomplishments, and expenditures to protect the rights of individuals with mental illness supported with payments from PAIMI Program allotments during the most recently completed fiscal year. The PAIMI Act at 42 U.S.C. 10824(a) requires that each P&A system transmit a copy of its annual report to the Secretary (via SAMHSA/CMHS) and to the State Mental Health Agency where the system is located. These annual PAIMI Program Performance Reports (PPR) to the Secretary must include the following information:

• The number of (PAIMI-eligible) individuals with mental illness served;

• A description of the types of activities undertaken;

• A description of the types of facilities providing care or treatment to which such activities are undertaken;

• A description of the manner in which the activities are initiated;

• A description of the accomplishments resulting from such activities;

• A description of systems to protect and advocate the rights of individuals with mental illness supported with payments from PAIMI Program allotments;

• A description of activities conducted by States to protect and advocate such rights;

• A description of mechanisms established by residential facilities for individuals with mental illness to protect such rights; and,

• A description of the coordination among such systems, activities and mechanisms;

• Specification of the number of public and nonprofit P&A systems established with PAIMI Program allotments;

• Recommendations for activities and services to improve the protection and advocacy of the rights of individuals with mental illness and a description of the need for such activities and services that were not met by the State P&A systems established under the PAIMI Act due to resource or annual program priority limitations.

The PAIMI Rules [42 CFR part 51] mandate that each State P&A system may place restrictions on either its case or client acceptance criteria developed as part of its annual PAIMI priorities. Each P&A system is required to inform prospective clients of any such restrictions when they request a service [42 CFR 51.32(b)].

The PAIMI PPR summary must include a separate section, prepared by the PAIMI Advisory Council (PAC), that describes the council's activities and its assessment of the State P&A system's operations [PAIMI Act at 42 U.S.C. 10805(7)].

The burden estimate for the annual State P&A system reporting requirements for these regulations is as follows.

42 CFR citation | Number of respondents | Responses per respondent | Burden per response (hrs.) | Total annual burden
51.8(a)(2) Program Performance Report | 57 | 1 | 26.0 | ¹ 1,482
51.8(a)(8) Advisory Council Report | 57 | 1 | 10.0 | ¹ 570
51.10 Remedial Actions:
Corrective Action Plans | 7 | 1 | 8.0 | 56
Implementation Status Report | 7 | 3 | 2.0 | 42
51.23(c) Reports, materials and fiscal data provided to the PAC | 57 | 1 | 1.0 | 57
51.25(b)(2) Grievance Procedures | 57 | 1 | .5 | 29
Total | 126 | 8 | 47.5 | 184
¹ Burden hours associated with these reports are approved under OMB Control No. 0930-0169.

Written comments and recommendations concerning the proposed information collection should be sent by July 7, 2016 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2016-13382 Filed 6-6-16; 8:45 am]

BILLING CODE 4162-20-P